DEPARTMENT OF JUSTICE

Immigration and Naturalization Service

[INS No. 2148-01; AG Order No.]

RIN 1115—AE26

Automatic Extension of Work Authorization for Hondurans and Nicaraguans Under Temporary Protected Status Program

AGENCY: Immigration and Naturalization Service, Justice.

ACTION: Notice.

SUMMARY: On May 8, 2001, the Immigration and Naturalization Service (Service) published notices in the Federal Register extending the designation of Honduras and Nicaragua under the Temporary Protected Status (TPS) Program until July 5, 2002. The extension for TPS allows eligible nationals of Honduras and Nicaragua to re-register for TPS and extend employment authorization. The Service is aware that may re-registrants will not receive their new employment authorization documents (EADs) until after their current EADs expire on July 5, 2001. Accordingly, this notice extends until December 5, 2001, the validity of EADs that were issued to Honduran or Nicaraguan nationals (or aliens having no nationality who last habitually resided in Honduras or Nicaragua) that are set to expire on July 5, 2001, under the extension of the TPS program. To be eligible for this automatic extension of employment authorization, an individual must be a national of Honduras or Nicaragua (or an alien having no nationality who last habitually resided in Honduras or Nicaragua) who currently holds an EAD that expires on July 5, 2001 and that was issued in conjunction with the TPS program for Honduras or Nicaragua. This automatic extension is limited to EADs bearing date of July 5, 2001 and the notation:

• “A-12” or “C-19” on the face of the card under “Category” for EADs issued on Form I-766; or, “274A.12(A)(12)” or “274A.12(C)(19)” on the face of the card under “Provision of Law” for EADs issued on Form I-688B.

DATES: This notice is effective July 3, 2001.

FOR FURTHER INFORMATION CONTACT: Michael Biggs, Office of Adjudications, Immigration and Naturalization Service, Room 3214, 425 I Street, NW., Washington, DC 20536, telephone (202) 514-4754.

SUPPLEMENTARY INFORMATION:

Why Is the Service Automatically Extending the Expiration Date of EADs From July 5, 2001 to December 5, 2001?

Considering both the number of applications that the Service anticipates it will receive for extension, Service processing capabilities, and given the short timeframe provided by statute for the decision to extend the Attorney General's designation of Honduras and Nicaragua under the TPS program, it is likely that many re-registrants will receive their new EAD after the expiration date of their current EAD. Unless an extension of the expiration date of their EAD is provided, re-registrants may experience a gap in employment authorization and be barred from working. Therefore, to afford the Service sufficient processing time or to ensure that re-registrants will be able to maintain their employment authorization until they receive a new EAD in connection with their re-registration for the new period of TPS, the Service through this notice, is extending the validity of applicable EADs to December 5, 2001.

Who Is Eligible To Receive an Automatic Extension of Employment Authorization?

To be eligible for an automatic extension of employment authorization, an individual must be a national of Honduras or Nicaragua (or an alien having no nationality who last habitually resided in Honduras or Nicaragua) who previously applied for an received an EAD under the initial January 5, 1999, designation of Honduras or Nicaragua for TPS. This automatic extension is limited to EADs bearing an expiration date of July 5, 2001, and the notation:

• “A-12” or “C-19” on the face of the card under “Category” for EADs issued on Form I-766; or,

• “274A.12(A)(12)” or “274A.12(C)(19)” on the face of the card under “Provision of Law” for EADs issued on Form I-688B.

Does a Qualified Individual Have To Apply to the Service for the Automatic Extension to December 5, 2001, of His or Her TPS-related EAD?

No, the extension of the validity of the previously issued EADS to December 5, 2001, is automatic and there is no fee. However, qualified individuals must re-register by August 6, 2001, in order to be eligible for a new EAD that is valid until July 5, 2002.

What Documents Can a Qualified Individual Show to His or Her Employer as Proof of Employment Authorization and Identify When Completing the Employment Eligibility Verification Form (Form I-9)?

For completion of the Form I-9 at the time of hire or re-verification, qualified individuals who have received an extension of employment authorization by virtue of this Federal Register notice may present to their employer a TPS-related EAD as proof of valid employment authorization and identity until December 5, 2001. To minimize confusion over this extension at the time of hire or re-verification, qualified individuals may also present to their employer a copy of this Federal Register notice regarding the extension of employment authorization to December 5, 2001. In the alternative to presenting a TPS-related EAD, any legally acceptable document or combination of documents listed in List A, List B, or List C of the Form I-9 may be presented as proof of identity and employment eligibility; it is the choice of the employee.

How Can Employers Determine Which EADs That Have Been Automatically Extended Through December 5, 2001, Are Acceptable for Completion of the Form I-9?

For purposes of verifying identity and employment eligibility or re-verifying employment eligibility on the Form I-9 until December 5, 2001, employers of TPS Honduran or Nicaraguan nationals (or aliens having no nationality who last habitually resided in Honduras or Nicaragua) whose employment authorization has been automatically extended by this notice mut accept an EAD that contains an expiration date of July 5, 2001, and that bears that notation:

• “A-12” or “C-19” on the face of the card under “Category” for EADs issued on Form I-766; or,

• “274A.12(A) (12)” or “274A.12(c) (19)” on the face of the card under “Provision of Law” for EADs issued on Form I-688B.

New EADs or extension stickers showing the December 5, 2001, expiration date will not be issued. Employers should not request proof of Honduran or Nicaraguan citizenship. Employers presented with an EAD that has been extended by this Federal Register notice and that appears to be genuine and to relate to the employee should accept the document as a valid List A document and should not ask for additional Form I-9 documentation. This action by the Service through this Federal Register notice does not affect the right of an employee to present any legally acceptable document as proof of identity and eligibility for employment. Employers are reminded that the laws prohibiting unfair immigration-related employment practices remain in full force.

Employers may call the Service's Office of Business Liaison Employer Hotline at 1-800-357-2099 to speak to a Service representative about this Notice. Employers can also call the Office of Special Counsel for Immigration Related Unfair Employment Practices (OSC) Employer Hotline at 1-800-255-8155. Employees or applicants can call the OSC Employee Hotline at 1-800-255-7688 about the automatic extension.

Does This Notice Affect Any Other Portion of the May 8, 2001, Federal Register Notices Extending TPS Designation for Honduras and Nicaragua Until July 5, 2002?

No, all other TPS requirements contained in the May 8, 2001, Federal Register notices at 66 FR 23269 and 66 FR 23271, respectively, are accurate and remain in effect.

Dated: June 28, 2001.
Kevin D. Rooney,
Commissioner.

[FR Doc. 01-16745 Filed 6-29-01; 8:45 am]

BILLING CODE 4410-01-M